DEPARTMENT OF THE TREASURY

Internal Revenue Service

26 CFR Part 301

[TD 9545]

RIN 1545-BG75

Interest and Penalty Suspension Provisions Under Section 6404(g) of the Internal Revenue Code

Correction

In rule document number 2011-21164 beginning on page 52259 through 52263 in the issue of August 22, 2011, make the following corrections:

301.6404-4 [Corrected]

1. On page 52262 in the second column, in § 301.6404-4(a)(7)(i) third paragraph, 15 lines from the bottom, the words “or Form 886-A” were inadvertently printed in italics. The words should not have been italicized, and are corrected as follows, “Form 886-A.”

2. On page 52263 in the third column, in § 301.6404-4(c)(2)(ii) 11 lines down, article number two (ii) was printed on a separate line, above the word “Example.” It should appear directly next to the word “Example.” It is corrected to appear as follows: (ii) Example.

[FR Doc. C1-2011-21164 Filed 9-28-11; 8:45 am]

BILLING CODE 1505-01-D